DEPARTMENT OF COMMERCE

National Oceanic and Atmospheric Administration

RIN 0648-XW86

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a web based meeting of the Ecosystem Scientific and Statistical Committee.

DATES: The webinar meeting will convene at 2 p.m. Eastern time on Tuesday, June 29, 2010 and conclude by 4 p.m.

ADDRESSES: The webinar will be accessible via internet. To participate, you must register for the webinar on the Gulf of Mexico's website. Directions on how to register will be posted one week prior to the webinar.

Council address: Gulf of Mexico Fishery Management Council, 2203 N. Lois Avenue, Suite 1100, Tampa, FL 33607.

FOR FURTHER INFORMATION CONTACT: Dr. Karen Burns, Ecosystem Management Specialist; Gulf of Mexico Fishery Management Council; telephone: (813) 348-1630.

SUPPLEMENTARY INFORMATION: The Ecosystem Scientific and Statistical Committee will meet to discuss the proposed work plan and conceptual framework for the Ecosystem Scientific and Statistical Committee. The Ecosystem Scientific and Statistical Committee will also discuss a possible response to the Gulf oil spill.

Copies of the agenda and other related materials can be obtained by calling (813) 348-1630. Materials will also be available to download from the Gulf Council's ftp site.

Click on the ftp server under Quick Links, scroll to the Ecosystem folder. In the Ecosystem folder click on the directory named Ecosystem SSC webinar-2010-06.

Although other non-emergency issues not on the agenda may come before the Ecosystem Scientific and Statistical Committee for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This webinar is accessible to people with disabilities. For assistance with any of our webinars contact Tina O'Hern at the Council (see ADDRESSES) at least 5 working days prior to the webinar.

Dated: June 4, 2010.
Tracey L. Thompson,
Acting Director, Office of Sustainable Fisheries, National Marine Fisheries Service.

[FR Doc. 2010-13841 Filed 6-8-10; 8:45 am]

BILLING CODE 3510-22-S